ENVIRONMENTAL PROTECTION AGENCY

[OECA-2002-0010; FRL-7426-4]

Agency Information Collection Activities; Submission of EPA ICR No. 0111.10 (OMB No. 2060-0101) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Asbestos, 40 CFR part 61, subpart M (OMB Control No. 2060-0101, EPA ICR No. 0111.10), expiration date February 28, 2003. The ICR, which is abstracted below, describes the nature of the information collection and its estimated burden and cost.

DATES: Additional comments may be submitted on or before January 23, 2003.

ADDRESSES: Follow the detailed instructions in the SUPPLEMENTARY INFORMATION section.

FOR FURTHER INFORMATION CONTACT: Everett Bishop, Compliance Assurance and Media Programs Division, Office of Compliance, 2223A, Environmental Protection Agency, 1200 Pennsylvania Ave., NW., Washington, DC 20460; telephone number: (202) 564-7032, fax number: (202) 564-0050; e-mail address: bishop.everett@epa.gov.

SUPPLEMENTARY INFORMATION: EPA has submitted the following ICR to OMB for review and approval according to the procedures prescribed in 5 CFR 1320.12. On June 20, 2002 (67 FR 41981), EPA sought comments on this ICR pursuant to 5 CFR 1320.8(d). EPA received no comments.

EPA has established a public docket for this ICR under Docket ID No. OECA-2002-0010, which is available for public viewing at the Enforcement and Compliance Docket and Information Center (ECDIC) in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ECDIC is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to: docket.oeca@epa.gov, or by mail to: EPA Docket Center, Environmental Protection Agency, Mail Code: 2201T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Asbestos, 40 CFR part 61, subpart M, (OMB Control No. 2060-0101, EPA ICR Number 0111.10). This is a request to renew an existing approved collection that is scheduled to expire on February 28, 2003. Under the OMB regulations, the Agency may continue to conduct or sponsor the collection of information while this submission is pending at OMB.

Abstract: The EPA is charged under section 112 of the Clean Air Act, as amended, to establish standards of performance for each category or subcategory of major sources and area sources of hazardous air pollutants. These standards are applicable to new or existing sources of hazardous air pollutants and shall require the maximum degree of emission reduction: In addition, section 114(a) States that:

* * * The Administrator may require any owner or operator subject to any requirement of this Act to (A) establish and maintain such records, (B) make such reports, (C) install, use, and maintain such monitoring equipment or methods (in accordance with such methods at such locations, at such intervals, and in such manner as the Administrator shall prescribe), and (D) sample such emissions, (E) keep records on control equipment parameters, production variables or other indirect data when direct monitoring of emissions is impractical, (F) submit compliance certifications, and (G) provide such other information as he may reasonably require.

In the Administrator's judgment, asbestos emissions from the demolition and renovation of asbestos-containing structures; the disposal of asbestos waste; waste conversion; asbestos milling, manufacturing, and fabricating; the use of asbestos on roadways; the use of asbestos insulation and spray materials; cause or contribute to air pollution that may reasonably be anticipated to endanger public health or welfare. Therefore, NESHAP was promulgated for this source category at 40 CFR part 61, subpart M.

The control of emissions of asbestos from the regulated sources requires not only the installation of properly designed equipment, but also the operation and maintenance of that equipment. Emissions of asbestos from the regulated sources are the result of operation of those sources (milling, manufacturing, fabricating, waste disposal, and demolition and renovation). These standards rely on the capture and reduction of asbestos emissions by air cleaning equipment and specified work practices. The required notifications are used to inform the Agency or delegated authority when a source becomes subject to the standard. The reviewing authority may then inspect the source to check if the pollution control devices are properly installed and operated, the work practices are being followed and the standard is being met. Performance test reports are needed as these are the Agency's record of a source's initial capability to comply with the emission standard, and serve as a record of the operating conditions under which compliance was achieved. Thereafter, submission of semi-annual reports of any visible emissions serves as the record of compliance. Waste conversion facilities must report initial testing conditions that become normal operating conditions for the plant. The quarterly reports are used for problem identification, as a check on source operation and maintenance, and for compliance determinations. Notification for each demolition or renovation activity allows the Agency or delegated authority to plan for inspections of the source in order to determine compliance with the work practices. Since each demolition or renovation is transitory in nature, notification must be made for each activity above the threshold limits specified in the regulation. The information generated by the monitoring, recordkeeping and reporting requirements described in this ICR is used by the Agency to ensure that facilities affected by the NESHAP continue to operate the control equipment and achieve compliance with the regulation. Adequate monitoring, recordkeeping, and reporting is necessary to ensure compliance with these standards, as required by the Clean Air Act. The information collected from recordkeeping and reporting requirements is also used for targeting inspections, and is of sufficient quality to be used as evidence in court.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 35 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Mills, Manufacturers, Fabricators, Landfills, Renovation/Demolition Owners and/or Operators.

Estimated Number of Respondents: 9,848.

Frequency of Response: On occasion, weekly, quarterly and semi-annual.

Estimated Total Annual Hour Burden: 342,249 hours.

Estimated Total Annual Cost: $16,613,609.

Changes in the Estimates: There is a decrease of 19,910 hours in the total estimated burden currently identified in the OMB Inventory of Approved ICR Burdens. This decrease is due to the reduction in the number of asbestos waste disposal sites subject to the asbestos NESHAP.

Dated: December 10, 2002.
Oscar Morales,
Director, Collection Strategies Division.

[FR Doc. 02-32391 Filed 12-23-02; 8:45 am]

BILLING CODE 6560-50-P